DEPARTMENT OF HOMELAND SECURITY

Coast Guard

[Docket No. USCG-2015-0629]

Collection of Information Under Review by Office of Management and Budget; OMB Control Number: 1625-0003

AGENCY: Coast Guard, DHS.

ACTION: Thirty-day notice requesting comments.

SUMMARY: In compliance with the Paperwork Reduction Act of 1995 the U.S. Coast Guard is forwarding an Information Collection Request (ICR), abstracted below, to the Office of Management and Budget (OMB), Office of Information and Regulatory Affairs (OIRA), requesting an extension of its approval for the following collection of information: 1625-0003, Boating Accident Report. Our ICR describe the information we seek to collect from the public. Review and comments by OIRA ensure we only impose paperwork burdens commensurate with our performance of duties.

DATES: Comments must reach the Coast Guard and OIRA on or before January 27, 2016.

ADDRESSES: You may submit comments identified by Coast Guard docket number [USCG-2015-0629] to the Coast Guard using the Federal eRulemaking Portal at http://www.regulations.gov. Alternatively, you may submit comments to OIRA using one of the following means:

(1) Email: OIRA-submission@omb.eop.gov.

(2) Mail: OIRA, 725 17th Street NW., Washington, DC 20503, attention Desk Officer for the Coast Guard.

(3) Fax: 202-395-6566. To ensure your comments are received in a timely manner, mark the fax, attention Desk Officer for the Coast Guard.

A copy of the ICR is available through the docket on the Internet at http://www.regulations.gov. Additionally, copies are available from: Commandant (CG-612), Attn: Paperwork Reduction Act Manager, U.S. Coast Guard, 2100 2nd Street SW., Stop 7710, Washington, DC 20593-7710.

FOR FURTHER INFORMATION CONTACT: Mr. Anthony Smith, Office of Information Management, telephone 202-475-3532, or fax 202-372-8405, for questions on these documents.

SUPPLEMENTARY INFORMATION:

Public Participation and Request for Comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection. The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. These comments will help OIRA determine whether to approve the ICR referred to in this Notice.

We encourage you to respond to this request by submitting comments and related materials. Comments to Coast Guard or OIRA must contain the OMB Control Number of the ICR. They must also contain the docket number of this request, [USCG-2015-0629], and must be received by January 27, 2016.

Submitting Comments

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that Web site's instructions. Additionally, if you go to the online docket and sign up for email alerts, you will be notified when comments are posted.

We accept anonymous comments. All comments received will be posted without change to http://www.regulations.gov and will include any personal information you have provided. For more about privacy and the docket, you may review a Privacy Act notice regarding the Federal Docket Management System in the March 24, 2005, issue of the Federal Register (70 FR 15086).

OIRA posts its decisions on ICRs online at http://www.reginfo.gov/public/do/PRAMain after the comment period for each ICR. An OMB Notice of Action on each ICR will become available via a hyperlink in the OMB Control Number: 1625-0003.

Previous Request for Comments

This request provides a 30-day comment period required by OIRA. The Coast Guard has published the 60-day notice (80 FR 45670, July 31, 2015) required by 44 U.S.C. 3506(c)(2). That Notice elicited five comments.

Comment #1: Mark Brown: Mr. Brown is the Boating Law Administrator in Oklahoma. He suggests that before the Boating Accident Report (BAR) is updated, items incorporated in the proposed rulemaking on Accident Reporting be included. The BAR form is approved by OMB on a triennial basis, and that approval expires soon. We are seeking to renew the approval of the BAR form based on the current accident reporting requirements. The proposed rulemaking to which the commenter refers will likely change the requirements for accident reporting if it is adopted. However, since the proposed rulemaking on Accident Reporting is still being developed and no final resolution has been determined, we cannot use any potential changes that the accident reporting rulemaking may propose. Therefore the BAR will remain as is. If the accident reporting rulemaking proposes changes to accident reporting requirements that will necessitate changes to the BAR form, those changes will be incorporated in the rulemaking and will be submitted to OMB for its approval.

Comment #2: Clifford Inn: Mr. Inn represents a State and enters data into the Boating Accident Report Database (BARD). He's suggesting adding an additional field under the existing ACCIDENT DETAILS to allow a field for the registration number of another vessel (the 2nd in an accident involving two vessels). Although, a good suggestion, it is our feeling that the BAR need not be changed at this time as there are other means when inserting into BARD to do what Mr. Inn suggests.

Comments #3: National Association of State Boating Law Administrators (NASBLA): NASBLA represents the recreational boating law officials in the 50 states and six territories. They claim that at this time, two factors limit their ability to respond to this Notice in a more comprehensive and meaningful way. Firstly, they claim that terminology may change depending on the results of a notice of proposed rulemaking on Accident Reporting. However, until the notice of proposed rulemaking is published and finalized, no changes will be made to the BAR as explained under COMMENT #1. The next iteration of the BAR may need changes if the rulemaking, when finalized, makes it appropriate. Secondly, they refer to another Federal Register notice (docket number USCG-2015-0753) dealing with the updating of the Boating Accident Manual (COMDTINST M16782.1). However, this ICR must go on, in spite of any problems the COMDTINST may encounter. They further state that commenting on this particular docket would not be particularly useful and might even be rendered obsolete by the time the Federal Register Notice regarding BAR form changes is issued. As such, no changes will be made to the BAR ICR as a result of these comments.

Comment #4. Connecticut Department of Energy & Environmental Protection: Connecticut supports an extension of the currently approved collection: 1625-0003, Boating Accident Report. However, they also feel the forms may need to be updated to ensure conformity with terminology and other changes to the casualty report content authorized in the final rule and consistent with COMDINST M16782.1. However, as stated in the response to NASBLA, the BAR will not be changed at this time.

Comment #5. Ohio Department of Natural Resources: Ohio's comments are consistent with those of the National Association of State Boating Law Administrators (ID: USCG-2015-0629-0004) and as such the comments above relative to NASBLA's submission apply to Ohio.

After considering all the above comments, no changes have been made to the collection for the reasons explained in the responses to the comments.

Information Collection Request

1. Title: Boating Accident Report.

OMB Control Number: 1625-0003.

Summary: The Coast Guard Boating Accident Report form is the data collection instrument that ensures compliance with the implementing regulations and Title 46 U.S.C. 6102(b) that requires the Secretary to collect, analyze and publish reports, information, and statistics on marine casualties.

Need: Title 46 U.S.C. 6102(a) requires a uniform marine casualty reporting system, with regulations prescribing casualties to be reported and the manner of reporting. The statute requires a State to compile and submit to the Secretary (delegated to the Coast Guard) reports, information, and statistics on casualties reported to the State. Implementing regulations are contained in Title 33, Code of Federal Regulations, SUBCHAPTER S—BOATING SAFETY, PART 173—VESSEL NUMBERING AND CASUALTY AND ACCIDENT REPORTING, Subpart C—Casualty and Accident Reporting and Part 174—STATE NUMBERING AND CASUALTY REPORTING SYSTEMS, Subpart C—Casualty Reporting System Requirements, and Subpart D—State reports.

States are required to forward copies of the reports or electronically transmit accident report data to the Coast Guard within 30 days of their receipt of the report as prescribed by 33 CFR 174.121 (Forwarding of casualty or accident reports). The accident report data and statistical information obtained from the reports submitted by the state reporting authorities are used by the Coast Guard in the compilation of national recreational boating accident statistics.

Forms: CG-3865, Recreational Boating Accident Report; CG-3865-SP, Reporte Del Accident En Barcos De Recreación (Spanish Version).

Respondents: Federal regulations (33 CFR 173.55) require the operator of any uninspected vessel that is numbered or used for recreational purposes to submit an accident report to the State authority when:

(1) A person dies; or

(2) A person is injured and requires medical treatment beyond first aid; or

(3) Damage to the vessel and other property total $2,000 or more, or there is a complete loss of the vessel; or

(4) A person disappears from the vessel under circumstances that indicate death or injury.

Frequency: On occasion.

Hour Burden Estimate: The estimated annual burden remains 2,500 hours a year.

Authority: The Paperwork Reduction Act of 1995; 44 U.S.C. Chapter 35, as amended.

Dated: December 21, 2015.
Thomas P. Michelli,
Deputy Chief Information Officer, U.S. Coast Guard.

[FR Doc. 2015-32644 Filed 12-24-15; 8:45 am]

BILLING CODE 9110-04-P